DEPARTMENT OF TRANSPORTATION

Surface Transportation Board

[STB Finance Docket No. 34604]

Rio Valley Railroad, Inc.—Acquisition Exemption—Rail Lines of Union Pacific Railroad Company in Cameron County, TX

Rio Valley Railroad, Inc. (RVRI), a Class III rail carrier, has filed a verified notice of exemption under 49 CFR 1150.41 to acquire by lease approximately 17.38 miles of rail lines located in Cameron County, TX, from the Union Pacific Railroad Company (UP). RVRI will lease the following rail lines: (1) A portion of the Mission Industrial Lead from milepost 0.06, at a point 50 feet measured at a right angle from UP's Brownsville Subdivision main track No. 104 at Harlingen, TX, to milepost 1.00 in Harlingen Yard at Harlingen, TX; (2) the Santa Rosa Industrial Lead from milepost 0.00 in Harlingen Yard at Harlingen, TX, to milepost 11.38 near Rogers Lacy, TX; and (3) approximately 5 miles of track in Harlingen Yard at Harlingen, TX.

This transaction is related to STB Finance Docket No. 34605, Rio Valley Switching Company—Operation Exemption—Rio Valley Railroad, Inc., wherein Rio Valley Switching Company seeks to operate the lines being leased by RVRI.

RVRI certifies that its projected revenues as a result of this transaction will not result in the creation of a Class II or Class I rail carrier. The transaction was scheduled to be consummated no sooner than November 2, 2004, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34604, must be filed with the Surface Transportation Board, 1925 K Street, NW., Washington, DC 20423-0001. In addition, one copy of each pleading must be served on Thomas F. McFarland, Thomas F. McFarland, P.C., 208 South LaSalle Street, #1890, Chicago, IL 60604-1112.

Board decisions and notices are available on our Web site at “www.stb.dot.gov.”

Decided: November 17, 2004.
By the Board, David M. Konschnik, Director, Office of Proceedings.
Vernon A. Williams,
Secretary.

[FR Doc. 04-26054 Filed 11-23-04; 8:45 am]

BILLING CODE 4915-01-P